DEPARTMENT OF JUSTICE

[OMB Number 1140-0056]

Agency Information Collection Activities; Proposed eCollection eComments Requested; Revision of a Currently Approved Collection Special Agent Medical Preplacement—ATF Form 2300.10

AGENCY: Bureau of Alcohol, Tobacco, Firearms and Explosives, Department of Justice.

ACTION: 60-Day notice.

SUMMARY: The Department of Justice (DOJ), Bureau of Alcohol, Tobacco, Firearms and Explosives (ATF), will submit the following information collection request to the Office of Management and Budget (OMB) for review and approval in accordance with the Paperwork Reduction Act of 1995. The proposed information collection OMB 1140-0056 (Special Agent Medical Preplacement—ATF F 2300.10), is being revised due to an increase in the number of respondents, public burden hours, and mailing costs since the last renewal 2017, as well as a change in the mailing address.

DATES: Comments are encouraged and will be accepted for 60 days until April 10, 2020.

FOR FURTHER INFORMATION CONTACT: If you have additional comments, regarding the estimated public burden or associated response time, suggestions, or need a copy of the proposed information collection instrument with instructions, or additional information, please contact: Danielle Thompson Murray, Recruitment, Diversity and Hiring Division, either by mail at Bureau of Alcohol, Tobacco and Firearms, 99 New York Ave. NE, 2S-125, Washington, DC 20226, by email at Danielle.Murray@atf.gov, or by telephone at 202-648-9100.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Revision of a currently approved collection.

2. The Title of the Form/Collection: Special Agent Medical Preplacement.

3. The agency form number, if any, and the applicable component of the Department sponsoring the collection: Form number (if applicable): ATF Form 2300.10. Component: Bureau of Alcohol, Tobacco, Firearms and Explosives, U.S. Department of Justice.

4. Affected public who will be asked or required to respond, as well as a brief abstract: Primary: Individuals or households. Other (if applicable): Federal Government Abstract: The Special Agent Medical Preplacement Form—ATF Form 2300.10 is used to collect specific personally identifiable information (PII), including the name, address, telephone, social security number and certain medical data. The collected medical data is used to determine if a candidate is medically qualified for and can be hired to serve as a criminal investigator (special agent) or an explosives enforcement officer.

5. An estimate of the total number of respondents and the amount of time estimated for an average respondent to respond: An estimated 288 respondents will utilize the form annually, and it will each respondents approximately 45 minutes for all respondents to prepare their responses.

6. An estimate of the total public burden (in hours) associated with the collection: The estimated annual public burden associated with this collection is 216 hours, which is equal to 288 (# of respondents) * 1 (number or responses per respondents) * .75 (45 minutes).

7. An Explanation of the Change in Estimates: The adjustments associated with this collection include an increase in both the number of respondents and total burden hours by 168 and 126 hours respectively, since the last renewal in 2017. Due to more respondents and an increase in the postal rate, the public cost has also increased by $2,160, since 2017.

If additional information is required contact: Melody Braswell, Department Clearance Officer, United States Department of Justice, Justice Management Division, Policy and Planning Staff, Two Constitution Square, 145 N Street NE, 3E.405A, Washington, DC 20530.

Dated: February 6, 2020.
Melody Braswell,
Department Clearance Officer for PRA, U.S. Department of Justice.

[FR Doc. 2020-02663 Filed 2-10-20; 8:45 am]

BILLING CODE 4410-18-P